COMMITTEE FOR PURCHASE FROM PEOPLE WHO ARE BLIND OR SEVERELY DISABLED

Procurement List Proposed Additions

AGENCY: Committee for Purchase From People Who Are Blind or Severely Disabled.

ACTION: Proposed additions to Procurement List.

SUMMARY: The Committee is proposing to add to the Procurement List services to be furnished by nonprofit agencies employing persons who are blind or have other severe disabilities.

Comments Must be Received on or Before: August 1, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions. If the Committee approves the proposed additions, the entities of the Federal Government identified in the notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Document Destruction—Internal Revenue Service

NISH, Vienna, Virginia (Prime Contractor) Performance to be allocated to the Nonprofit Agencies identified at the following locations:

1122 Town & Country Commons, Chesterfield, Missouri

1222 Spruce Street, St. Louis, Missouri

2218 N. Highway 67, Florissant, Missouri

3636 S. Geyer Road, Suite 300, St. Louis, Missouri

NPA: Challenge Unlimited, Inc., Alton, Illinois

24200 Tower Place, Peewaukee, Wisconsin

517 E. Wisconsin Avenue, Milwaukee, Wisconsin

6021 Durand Avenue, Suite 600, Racine, Wisconsin

Reuss Federal Plaza, Milwaukee, Wisconsin

NPA: Milwaukee Center for Independence, Inc., Milwaukee, Wisconsin

250 Marquette Avenue, Suite 560 (CID), Minneapolis, Minnesota

250 Marquette Avenue, Suite 275 (TAC), Minneapolis, Minnesota

2001 Killebrew Drive, Bloomington, Minnesota

6040 Earle Brown Drive, Brooklyn Center, Minnesota

St. Paul Headquarters, 316 N. Robert Street, Minneapolis, Minnesota

Appeals Division, 175 E. Fifth Street, Suite 600, St. Paul, Minnesota

NPA: AccessAbility, Inc., Minneapolis, Minnesota

Internal Revenue Service Field Procurement Operation

230 S. Dearborn Street, 14th Floor, Chicago, Illinois

NPA: Opportunity, Inc., Highland Park, Illinois

Contract Activity: IRS-Western Area Procurement Branch—APFW, San Francisco, California

Service Type/Location: Switchboard Operation

4th Communication Squadron, Seymour Johnson AFB, North Carolina

NPA: Coastal Enterprises of Jacksonville, Inc., Jacksonville, North Carolina

Contract Activity: AF-ACC-Seymour Johnson AFB, North Carolina

Sheryl D. Kennerly,
Director, Information Management.

[FR Doc. 04-15100 Filed 7-1-04; 8:45 am]

BILLING CODE 6353-01-P